DEPARTMENT OF EDUCATION

List of Correspondence

AGENCY: Office of Special Education and Rehabilitative Services; Department of Education.

ACTION: List of Correspondence from January 1, 2011 through March 31, 2011.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA. This list and the letters or other Departmental documents described in this list, with personally identifiable information redacted, as appropriate, can be found at: http://www2.ed.gov/policy/speced/guid/idea/index.html.

FOR FURTHER INFORMATION CONTACT: Jessica Spataro or Mary Louise Dirrigl. Telephone: (202) 245-7468.

If you use a telecommunications device for the deaf (TDD), you can call the Federal Relay Service (FRS), toll free, at 1-800-877-8339.

Individuals with disabilities can obtain a copy of this list and the letters or other Departmental documents described in this list in an accessible format (e.g., braille, large print, audiotape, or computer diskette) by contacting Jessica Spataro or Mary Louise Dirrigl at (202) 245-7468.

SUPPLEMENTARY INFORMATION: The following list identifies correspondence from the Department issued from January 1, 2011 through March 31, 2011. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 612—State Eligibility

Topic Addressed: Least Restrictive Environment

○ Letter dated January 5, 2011, to Texas West Independent School District Assistant Superintendant Jan Hungate, regarding the least restrictive environment requirements in Part B of the IDEA that apply to children with disabilities who reside in a residential facility located in the district.

○ Letter dated March 7, 2011, to Statewide Parent

Advocacy Network of New Jersey Executive Co-Director Diana Autin, regarding whether certain placements for children with autism may be permissible under Part B of the IDEA.

Topic Addressed: Children in Private Schools

○ Letter dated January 5, 2011, to New York State Education Department Associate Commissioner Rebecca Cort, regarding whether, absent a ruling by a court or hearing officer, a local educational agency (LEA) can reach an agreement to provide tuition reimbursement to a parent who unilaterally places his or her child with a disability at a private school that the State has not approved to provide special education.

Topic Addressed: General Supervisory Authority

○ Letter dated March 2, 2011, to District of Columbia Acting State Superintendent of Education Hosanna Mahaley, reiterating the Office of Special Education Programs' (OSEP's) previous guidance that the IDEA makes no provision for funding special education and related services for individuals with disabilities incarcerated in Federal prisons.

Section 613—Local Educational Agency Eligibility

Topic Addressed: Use of Federal Funds

○ Letter dated January 6, 2011, to Washington Office of Superintendent of Public Instruction Special Education Section Director Douglas Gill, regarding whether there are any restrictions on maintenance of effort reductions that may have been available to LEAs as a result of the increase in Part B of the IDEA funding under the American Recovery and Reinvestment Act of 2009.

Section 614—Evaluations, Eligibility Determinations, Individualized Education Programs, and Educational Placements

Topic Addressed: Evaluations, Parental Consent and Reevaluations

○ Letter dated January 6, 2011, to Lehigh University Professor of Education and Law Perry A. Zirkel, clarifying how LEAs that use a response- to- intervention (RTI) process can determine whether a child enrolled in a private school by his or her parents has a specific learning disability.

○ Letter dated February 10, 2011, to non-attorney advocate Amber Mintz, regarding the review of existing evaluation data on the child.

Topic Addressed: Individualized Education Program

○ Letter dated January 24, 2011, to individual (personally identifiable information redacted), regarding the participation of an individual who can interpret the instructional implications of evaluation results on the individualized education program (IEP) Team.

Section 615—Procedural Safeguards

Topic Addressed: Independent Educational Evaluations

○ Letter dated January 19, 2011, to individual (personally identifiable information redacted), regarding whether States and school districts may establish criteria governing how and when parents must provide the results of a private evaluation if the public agency wishes to schedule an IEP Team meeting to discuss that evaluation.

Part C—Infants and Toddlers With Disabilities

Section 637—State Application and Assurances

Topic Addressed: Early Childhood Transition

Letter dated February 9, 2011, to Infant and Toddler Coordinators Association President Brad Hutton and National Association of State Directors of Special Education Director Bill East, clarifying certain requirements in Parts B and C of the IDEA that were explained in OSEP's Early Childhood Transition Frequently Asked Questions (FAQ) document, which is available on the Technical Assistance Network's Web site at http://www.nectac.org/~pdfs/topics/transition/ECTransitionFAQs12_01_09.pdf.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

(Catalog of Federal Domestic Assistance Number 84.027, Assistance to States for Education of Children with Disabilities)

Dated: October 18, 2011.
Alexa Posny,
Assistant Secretary for Special Education and Rehabilitative Services.

[FR Doc. 2011-27453 Filed 10-21-11; 8:45 am]

BILLING CODE 4000-01-P